DEPARTMENT OF TRANSPORTATION

Coast Guard

33 CFR Part 154

[USCG-1999-5149]

RIN 2115-AF79

Response Plans for Marine Transportation-Related Facilities Handling Non-Petroleum Oils; Clarification

AGENCY: Coast Guard, DOT.

ACTION: Clarification to final rule.

SUMMARY: This document clarifies a preamble discussion to a final rule published in the Federal Register of June 30, 2000. The rule amended Coast Guard regulations requiring response plans for marine transportation-related (MTR) facilities that handle, store, or transport animal fats or vegetable oils. Specifically, this document clarifies the explanation for higher volume ports.

DATES: This document becomes effective on October 18, 2000.

FOR FURTHER INFORMATION CONTACT: For questions on this clarification or the final rule, call Lieutenant Claudia Gelzer, Project Manager, Coast Guard, telephone 202-267-1983. For questions on viewing or submitting material to the docket, call Dorothy Beard, Chief, Dockets, Department of Transportation, telephone 202-366-9329.

SUPPLEMENTARY INFORMATION:

Clarification of Preamble to Final Rule

On June 30, 2000, we published in the Federal Register the final rule titled “Response Plans for Marine Transportation-Related Facilities Handling Non-Petroleum Oils” (USCG-1999-5149)[65 FR 40820]. In the preamble to that rule, on page 40822, we stated that higher volume port areas were designated based on the availability of response equipment on hand in those ports. After that publication, the Coast Guard received comments from the affected public requesting clarification of our high volume ports discussion.

We previously addressed this topic in an interim final rule, “Response Plans for Marine Transportation-Related Facilities” (58 FR 7330), that was published in the Federal Register on February 5, 1993. As stated in the interim rule, higher volume ports were actually designated based on the volume of all types of oil transported through those ports. Faster response times were established for those ports to encourage vessel and facility plan holders to concentrate larger quantities of response equipment as close as possible to locations having the highest probability of a significant spill incident. Over time, the industry has responded by stockpiling larger quantities of response equipment in those ports practicable for all plan holders regardless of the type of oil cargo carried.

Dated: October 12, 2000.
Howard L. Hime,
Acting Director of Standards, Marine Safety and Environmental Protection.

[FR Doc. 00-26766 Filed 10-17-00; 8:45 am]

BILLING CODE 4910-15-P